COMMISSION ON CIVIL RIGHTS

Sunshine Act Meeting

AGENCY: U.S. Commission on Civil Rights.

DATE AND TIME: Friday, October 13, 2000, 9:30 a.m.

PLACE: U.S. Commission on Civil rights, 624 Ninth Street, NW., Room 540, Washington, DC 20425.

STATUS:

Agenda

I. Approval of Agenda

II. Approval of Minutes of September 15, 2000 Meeting

III. Announcements

IV. Staff Director's Report

V. Mississippi Delta Hearing Report

VI. Supreme Court Project

VII. State Advisory Committee Reports

• The Decision to Prosecute Drug Offenses and Homicides in Marion County, Indiana (Indiana)

• Limited-English-Proficient Students in Maine: An Assessment of Equal Educational Opportunities (Maine)

• The Status of Equal Opportunity Minorities in Moorhead, Minnesota (Minnesota)

• Community Forum on Race Relations in Racine County, Wisconsin (Wisconsin)

VIII. Future Agenda Items

CONTACT PERSON FOR FURTHER INFORMATION: David Aronson, Press and Communications (202) 376-8312.

Edward A. Hailes, JR.
Acting General Counsel.

[FR Doc. 00-25979 Filed 10-4-00; 2:58 pm]

BILLING CODE 6335-0-M